ENVIRONMENTAL PROTECTION AGENCY

40 CFR Part 141

[FRL-6925-7]

RIN 2040-AD43

Revisions to the Interim Enhanced Surface Water Treatment Rule (IESWTR), the Stage 1 Disinfectants and Disinfection Byproducts Rule (Stage 1DBPR), and Revisions to State Primacy Requirements To Implement the Safe Drinking Water Act (SDWA) Amendments

Correction

In rule document 01-655, beginning on page 3770, in the issue of Tuesday, January 16, 2001, make the following corrections:

§ 141.34 [Corrected]

1.On page 3779, in the table, in the second column, in paragraph (iv), “prevent” should read “percent”.

2.On the same page, in the same table, in the same column, in paragraph (v), “ehnanced” should read “enhanced”.

3. On the same page, in the same table, in the same column, in paragraph (v), in the third line, remove the repeated phrase “in §141.135(b)”.

4. On the same page, in the same table, in the same column, in footnote 1, in the second line, “taht” should read “that”.

[FR Doc. C1-655 Filed 2-9-01; 8:45 am]

BILLING CODE 1505-01-D

DEPARTMENT OF THE INTERIOR

Bureau of Land Management

[MTM 88993)

Public Land Order No. 7480; Withdrawal of National Forest System Lands in the Rocky Mountain Front; Montana

Correction

In notice document 01-1816 beginning on page 6657 in the issue of Monday, January 22, 2001, make the following correction:

On page 1816, in the second column:

“T. 29 N., R. 12 W., unsurveyed

Secs. 1 to 30, inclusive, and Secs. 32 to 36, inclusive; Sec. 31, excluding Flathead National Forest System lands.” should read:

“T. 29 N., R. 12 W., unsurveyed

Secs. 1 to 30, inclusive, and Secs. 32 to 36, inclusive;

Sec. 31, excluding Flathead National Forest System lands.”

[FR Doc. C1-1816 Filed 2-9-01; 8:45 am]

BILLING CODE 1505-01-D

DEPARTMENT OF TRANSPORTATION

Federal Aviation Administration

14 CFR Part 71

[Airspace Docket No. 00-ACE-37]

Amendment to Class E Airspace; Grant, NE

Correction

In rule document 01-1279 beginning on page 8358, in the issue of Wednesday, January 31, 2001, make the following correction:

§ 71.1 [Corrected]

On page 8359, in the second column, in §71.1, under the heading, ACE NE E5 Grant, NE [Revised], in the 6th line, “with” should read “within”.

[FR Doc. C1-1279 Filed 2-9-01; 8:45 am]

BILLING CODE 1505-01-D

DEPARTMENT OF TRANSPORTATION

Federal Aviation Administration

14 CFR Part 71

[Airspace Docket No. 00-ACE-28]

Amendment to Class E Airspace; Pittsburg, KS

Correction

In rule document 00-27182, beginning on page 63544, in the issue of Tuesday, October 24, 2000, make the following correction:

§71.1 [Corrected]

On page 63545, in the second column, §71.1, under the heading, ACE KS E5 Pittsburg, KS [Revised], in the eighth line, “east” should read “each”.

[FR Doc. C0-27182 Filed 2-9-01; 8:45 am]

BILLING CODE 1505-01-D